ENVIRONMENTAL PROTECTION AGENCY

40 CFR Part 52

[EPA-R04-0AR-2005-NC-0002-200538(b); FRL-8049-3]

Approval and Promulgation of Implementation Plans; North Carolina: Charlotte, Raleigh-Durham, and Winston-Salem Areas Second 10-Year Maintenance Plan for the Carbon Monoxide National Ambient Air Quality Standard

AGENCY: Environmental Protection Agency (EPA).

ACTION: Proposed rule.

SUMMARY: The EPA is proposing to approve a revision to the North Carolina State Implementation Plan (SIP) submitted in final form on March 23, 2005. The SIP revision provides the second 10-year maintenance plan for the Charlotte, Raleigh-Durham, and Winston-Salem Carbon Monoxide Maintenance Areas, which are composed of the following four counties: Mecklenburg (Charlotte Area); Durham and Wake (Raleigh-Durham Area); and Forsyth (Winston-Salem Area). The second 10-year maintenance plan includes new motor vehicle emissions budgets (MVEBs) for carbon monoxide for the year 2015. EPA is proposing to approve this SIP revision, including the new 2015 MVEBs for carbon monoxide, because it satisfies the requirement of the Clean Air Act for the second 10-year maintenance plan for the Charlotte, Raleigh-Durham, and Winston-Salem Areas.

In addition, in this rulemaking, EPA is providing information on its transportation conformity adequacy determination for new MVEBs for the year 2015 that are contained in the second 10-year carbon monoxide maintenance plan for the Charlotte, Raleigh-Durham, and Winston-Salem Areas. EPA determined that the 2015 MVEBs are adequate through a previous action.

In the Final Rules Section of this Federal Register, EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before April 24, 2006.

ADDRESSES: Submit your comments, identified by Docket ID No EPA-R04-0AR-2005-NC-0002, by one of the following methods:

1. http://www.regulations.gov: Follow the on-line instructions for submitting comments.

2. E-mail: wood.amanetta@epa.gov.

3. Fax: (404) 562-9019.

4. Mail: “EPA-R04-0AR-2005-NC-0002”, Regulatory Development Section, Air Planning Branch, Air, Pesticides and Toxics Management Division, U.S. Environmental Protection Agency, Region 4, 61 Forsyth Street, SW, Atlanta, Georgia 30303-8960.

5. Hand Delivery or Courier: Amanetta Wood of the Air Quality Modeling and Transportation Section at the Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Amanetta Wood's telephone number is (404) 562-9025. Ms. Wood can also be reached via electronic mail at wood.amanetta@epa.gov.

SUPPLEMENTARY INFORMATION: For additional information see the direct final rule which is published in the Rules Section of this Federal Register.

Dated: March 14, 2006.
A. Stanley Meiburg,
Acting Regional Administrator, Region 4.

[FR Doc. 06-2869 Filed 3-23-06; 8:45 am]

BILLING CODE 6560-50-P